DEPARTMENT OF ENERGY

10 CFR Part 460

[Docket No. EERE-2009-BT-BC-0021]

RIN 1904-AC11

Energy Efficiency Standards for Manufactured Housing

AGENCY: Office of Energy Efficiency and Renewable Energy, Department of Energy.

ACTION: Request for Information (RFI).

SUMMARY: The U.S. Department of Energy (DOE) has initiated the process to develop and publish energy standards for manufactured housing, as directed by the Energy Independence and Security Act of 2007 (EISA). To facilitate this process, enhance the quality of the standards and supporting documentation, and to allow interested parties to provide suggestions, comments, and information, DOE is publishing this request for information. DOE is interested in receiving information that relates to the relationship between energy efficiency and indoor air quality in manufactured housing, financing measures that may be available for manufactured homes with higher energy efficiencies, and possible enforcement models for the DOE standards. This notice identifies several areas on which DOE is particularly interested in receiving information; however, any input and suggestions considered relevant to DOE's effort are welcome.

DATES: Written comments and information are requested on or before July 25, 2013.

ADDRESSES: Interested parties are encouraged to submit comments electronically. However, interested persons may submit comments, identified by docket number EERE-2009-BT-BC-0021 or by RIN 1904-AC11, by any of the following methods:

1. Federal eRulemaking Portal: http://www.regulations.gov. Follow the instructions for submitting comments.

2. Email: Manufactured.Housing@ee.doe.gov. Include docket number EERE-2009-BT-BC-0021 in the subject line of the message. Please include the full body of your comments in the text of the message or as an attachment.

3. Mail: Address written comments to Ms. Brenda Edwards, U.S. Department of Energy, Building Technologies Office, Mailstop EE-2J, 1000 Independence Avenue SW., Washington, DC 20585-0121. If possible, please submit all items on a compact disc (CD), in which case it is not necessary to include printed copies.

4. Hand Delivery/Courier: Ms. Brenda Edwards, U.S. Department of Energy, Building Technologies Office, 6th Floor, 950 L'Enfant Plaza SW., Washington, DC 20024. Telephone: (202) 586-2945. If possible, please submit all items on a CD, in which case it is not necessary to include printed copies.

Due to potential delays in DOE's receipt and processing of mail sent through the U.S. Postal Service, we encourage respondents to submit comments electronically to ensure timely receipt.

This RFI and any comments that DOE receives will be made available on the DOE Building Technologies Office Manufactured Housing Web site at https://www.energycodes.gov/regulations/manufactured-housing-standards.

FOR FURTHER INFORMATION CONTACT: Mr. Mohammed Khan, U.S. Department of Energy, Office of Energy Efficiency and Renewable Energy, Building Technologies Office, EE-2J, 1000 Independence Avenue SW., Washington, DC 20585-0121; (202) 586-7892; mailto: Manufactured_Housing@ee.doe.gov. Questions on DOE's legal authority should be directed to Michael Jensen, U.S. Department of Energy, Office of the General Counsel (GC-71), 1000 Independence Avenue SW., Washington, DC 20585; Michael.Jensen@hq.doe.gov.

SUPPLEMENTARY INFORMATION:

Authority and Background

Section 413 of EISA requires that DOE establish by regulation standards for energy efficiency in manufactured housing. See 42 U.S.C. 17071(a)(1). DOE is directed to base the energy efficiency standards on the most recent version of the International Energy Conservation Code (IECC), except where DOE finds that the IECC is not cost effective, or a more stringent standard would be more cost effective, based on the impact of the IECC on the purchase price of manufactured housing and on total life-cycle construction and operating costs. See 42 U.S.C. 17071(b)(1). In establishing the energy efficiency standards, DOE is directed to consider:

• The design and factory construction techniques of manufactured housing,

• The climate zones established in the U.S. Department of Housing and Urban Development's Manufactured Home Construction and Safety Standards (the HUD Code) rather than the climate zones in the IECC, and

• Alternative practices that result in net estimated energy consumption equal to or less than the specific IECC standards. See 42 U.S.C. 17071(b)(2).

In addition, DOE is to provide a system for enforcement in which “[a]ny manufacturer of manufactured housing that violates a provision of the regulations under subsection (a) is liable to the United States for a civil penalty in an amount not exceeding 1 percent of the manufacturer's retail list price of the manufactured housing.” See 42 U.S.C. 17071(c).

On February 22, 2010, DOE published an advance notice of proposed rulemaking (ANOPR) to initiate the process of developing energy efficiency standards for manufactured housing and to solicit information and data from industry and stakeholders (75 FR 7556). The ANOPR identified thirteen specific issue areas on which DOE sought additional information. DOE received a total of twelve written comments in response to the ANOPR, all of which are available for public viewing at the regulations.gov Web page.

DOE now believes it is important to allow interested parties an additional opportunity to provide information they feel will assist DOE in developing the proposed standards. This initial request for input will be followed by a notice of proposed rulemaking, based on the information received as a result of this notice and other data and information gathered by DOE.

Public Participation

A. Submission of Information

DOE will accept comments in response to this notice under the timeline provided in the DATES section above. Comments submitted to DOE by email should be provided in WordPerfect, Microsoft Word, PDF, or text file format. Those responding should avoid the use of special characters or any form of encryption, and wherever possible, comments should include the electronic signature of the author. Comments submitted to DOE by mail or hand delivery/courier should include one signed original paper copy. No telefacsimiles will be accepted.

Comments submitted in response to this notice will become a matter of public record and will be made publicly available.

B. Issues on Which DOE Seeks Information

DOE is particularly interested in receiving information on the following issues:

(1) Indoor Air Quality. DOE is interested in data, studies, and other such materials that address the relationship between potential reductions in levels of natural air infiltration and both indoor air quality and occupant health for a manufactured home. DOE is particularly interested in information on the potential interplay between air exchange rates comparable to those specified under the 2012 IECC and emission control requirements under the HUD Code. DOE also is interested in information on typical baseline levels of air infiltration through recently-built manufactured homes and information on the role of total air flow through a manufactured home in the protection of occupant health and safety.

(2) Financing and related incentives. DOE received comments in response to the ANOPR that noted generally that the increased cost of financing energy efficient manufactured homes often can be an obstacle to purchase. DOE is interested in receiving additional information on the types of financing available for manufactured homes, the availability of this financing, the extent to which manufactured housing currently is incentivized, and the availability of energy efficiency incentive programs available to manufactured home purchasers. DOE also is interested in information on the existence of financing structures offered by utilities, manufacturers, lenders, and federal, state, and local governments, and the estimated payback associated with each method of financing.

(3) Model systems of enforcement. DOE received comments in response to the ANOPR that included urging DOE to rely on HUD's existing enforcement system rather than develop a separate DOE system of enforcement, encouraging DOE develop a separate compliance certification system that would be independent of the existing HUD certification system, and recommending that DOE rely on the EPA ENERGY STAR verification and labeling program to ensure compliance with the DOE energy efficiency standards. DOE is interested in receiving additional information that commenters believe would be useful to DOE regarding suggested characteristics in developing a model system of enforcement for DOE's energy efficiency standards.

(4) Suggested sources, studies, and research results of other information considered relevant to DOE's effort to establish energy standards for manufactured housing.

Issued in Washington, DC, on June 18, 2013.
Kathleen B. Hogan,
Deputy Assistant Secretary for Energy Efficiency, Energy Efficiency and Renewable Energy.

[FR Doc. 2013-15055 Filed 6-24-13; 8:45 am]

BILLING CODE 6450-01-P